DEPARTMENT OF DEFENSE

Office of the Joint Staff; Privacy Act of 1974; System of Records

AGENCY: Office of the Joint Staff, DoD.

ACTION: Notice to add a system of records.

SUMMARY: The Office of the Joint Staff, DoD proposes to add a system of records to its inventory of record systems subject to the Privacy Act of 1974 (5 U.S.C. 552a), as amended.

DATES: The changes will be effective on November 15, 2004 unless comments are received that would result in a contrary determination.

ADDRESSES: Send comments to DoD/WHS/ESCD, Directives and Records Division, Directives and Records Branch, 201 12th Street, Arlington, VA 22202.

FOR FURTHER INFORMATION CONTACT: Ms. Juanita Irvin at (703) 601-4722, extension 110.

SUPPLEMENTARY INFORMATION: The Office of the Joint Staff notices for systems of records subject to the Privacy Act of 1974 (5 U.S.C. 552a), as amended, have been published in the Federal Register and are available from the address above.

The proposed system report, as required by 5 U.S.C. 552a(r) of the Privacy Act of 1974, as amended, was submitted on October 4, 2004, to the House Committee on Government Reform, the Senate Committee on Governmental Affairs, and the Office of Management and Budget (OMB) pursuant to paragraph 4c of appendix I to OMB Circular No. A-130, ‘Federal Agency Responsibilities for Maintaining Records About Individuals,’ dated February 8, 1996 (February 20, 1996, 61 FR 6427).

Dated: October 7, 2004.
L.M. Bynum,
Alternate OSD Federal Register Liaison Officer, Department of Defense.

JS009ATHD

SYSTEM NAME:

Anti-Terrorism Awareness Training.

SYSTEM LOCATION:

Defense Technical Information Center, 8725 John J. Kingman Road, Fort Belvoir, VA 22060-6218.

Categories of individuals covered by the system:

Service members (to include the Reserve and National Guard), DoD civilian employees, DoD contractors, and DoD employee dependant family members.

Categories of records in the system:

The information collected from the individual includes their first name, last name, last 4 digits of their Social Security Number, rank, user category, combatant command region, and date training completed.

Authority for maintenance of the system:

10 U.S.C., Chapter 5, sections 151-155; DoD Instruction 2000.16, DoD Antiterrorism Standards; and E.O. 9397 (SSN).

Purpose(s):

Due to the increased terrorism threat world-wide, the Department of Defense (DoD) requires that all DoD employees, contractors and dependents who will be traveling outside the United States take terrorism awareness training to make them more aware of potential threats. The system will be used by authorized DoD officials to validate required training has been completed within the past year.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Rountine Uses’ set forth at the beginning of the Joint Staff's compilation of systems of records notices apply to this system.

Policies and practices for storing, retrieving, accessing, retaining, and disposing of records in the system:

Storage:

Records are automated and are maintained in computers and computer output products and reside on disk and magnetic tape.

Retrievability:

A combination of individual's name and the last 4 digits of their Social Security Number retrieve the record. Training date is then displayed for matching individual records.

Safeguards:

Records are maintained in a controlled facility. Physical entry is restricted by the use of locks, guards, and is accessible only to authorized personnel. Access to records is limited to those personnel who require the records to perform their official duties consistent with the purpose for which the information was collected. Access to computerized data is restricted by passwords, which are changed periodically.

Retention and disposal:

Disposition pending. Until the National Archives and Records Administration has approved the retention and disposition schedule for these records treat them as permanent.

SYSTEM MANAGER(S) AND ADDRESS:

Branch Chief, Programs and Resources, Antiterrorism Division J-34, The Joint Staff, J-3, Deputy Directorate for Antiterrorism and Homeland Defense, 3000 Joint Staff Pentagon, Washington, DC 20318-3000.

NOTIFICATION PROCEDURE:

Individuals seeking to determine whether information about themselves is contained in this system should address written inquiries to the Branch Chief, Programs and Resources, Antiterrorism Division J-34, The Joint Staff, J-3, Deputy Directorate for Antiterrorism and Homeland Defense, 3000 Joint Staff Pentagon, Washington, DC 20318-3000.

RECORD ACCESS PROCEDURES:

Individuals seeking access to information about themselves is contained in this system should address written inquiries to the Branch Chief, Programs and Resources, Antiterrorism Division J-34, The Joint Staff, J-3, Deputy Directorate for Antiterrorism and Homeland Defense, 3000 Joint Staff Pentagon, Washington, DC 20318-3000.

CONTESTING RECORD PROCEDURES:

The Joint Staff rules for accessing records and for contesting contents and appealing initial determinations are contained in OSD Administrative Instruction 81; Joint Administrative Instruction 2530.9A; 32 CFR part 311; or may be obtained from the system manager.

RECORD SOURCE CATEGORIES:

From the individual. Date training was taken is computer generated.

EXEMPTIONS CLAIMED FOR THE SYSTEM:

None.

[FR Doc. 04-23121 Filed 10-14-04; 8:45 am]

BILLING CODE 5001-06-M